ENVIRONMENTAL PROTECTION AGENCY

[FRL-9508-2]

Request for Nominations of Experts for the Review of Approaches To Derive a Maximum Contaminant Level Goal for Perchlorate

AGENCY: Environmental Protection Agency (EPA).

ACTION: Notice.

SUMMARY: The EPA Science Advisory Board (SAB) Staff Office requests public nominations for technical experts to form an SAB panel to review the agency's approaches for a deriving maximum contaminant level goal (MCLG) for perchlorate.

DATES: Nominations should be submitted by January 13, 2012.

FOR FURTHER INFORMATION CONTACT: Any member of the public wishing further information regarding this Notice and Request for Nominations may contact Mr. Thomas Carpenter, Designated Federal Officer (DFO), SAB Staff Office, by telephone/voice mail at (202) 564-4885, by fax at (202) 565-2098, or via email at carpenter.thomas@epa.gov. General information concerning the EPA SAB can be found at the EPA SAB Web site at http//www.epa.gov/sab.

SUPPLEMENTARY INFORMATION:

Background: The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. 2) and related regulations. The SAB will comply with the provisions of FACA and all appropriate SAB Staff Office procedural policies. In response to EPA's request, the SAB Staff Office will form an expert panel to review EPA's approaches to derive an MCLG for perchlorate.

In 2011, EPA announced its decision (76 FR 7762-7767) to regulate perchlorate under the Safe Drinking Water Act (SDWA) and publish a proposal no later than February 2013. SDWA requires EPA to request comments from the SAB prior to proposal of a maximum contaminant level goal (MCLG) and national primary drinking water regulation. EPA has therefore requested an SAB review of the scientific and technical bases for the approaches being considered to derive an MCLG for perchlorate. The agency seeks review of a draft Health Effects Support Document for Perchlorate. This draft document is under development and is expected to be available in early 2012. The document will include the following information: EPA's use and interpretation of reference doses (RfDs); statutory requirements for MCLGs and approaches for deriving MCLGs that EPA has used in the past; a discussion of the 2005 National Research Council report, “Health Implications of Perchlorate Ingestion;” and discussion of physiologically based pharmacokinetic (PBPK) modeling related to perchlorate health effects.

Availability of the review materials: The draft Health Effects Support Document for perchlorate will be available and posted on the agency's Web site in the near future. For questions concerning the draft Health Effects Support Document for Perchlorate, please contact either Mr. Eric Burneson, Office of Ground Water and Drinking Water, U.S. EPA, 1200 Pennsylvania Avenue NW., MC 4607M, Washington, DC 20460, phone (202) 564-5250 or at burneson.eric@epa.gov or Mr. Daniel Olson, Office of Ground Water and Drinking Water, U.S. EPA, 1200 Pennsylvania Avenue NW., MC 4607M, Washington, DC 20460, phone (202) 564-5239 or at olson.daniel@epa.gov

Request for Nominations: The SAB Staff Office is seeking nominations of nationally and internationally recognized scientists and engineers with demonstrated expertise and research in one or more of the following areas: drinking water, public health, epidemiology, toxicology, endocrinology, requirements and approaches to derive MCLGs, PBPK models, and health implications of perchlorate ingestion.

Process and Deadline for Submitting Nominations: Any interested person or organization may nominate qualified individuals in the areas of expertise described above for possible service on this expert panel. Nominations should be submitted in electronic format (preferred over hard copy) following the instructions for “Nominating Experts to Advisory Panels and Ad Hoc Committees Being Formed,” provided on the SAB Web site. The instructions can be accessed through the “Nomination of Experts” link on the blue navigational bar at the SAB Web site http://www.epa.gov/sab. To receive full consideration, nominations should include all of the information requested below.

EPA's SAB Staff Office requests contact information about the person making the nomination; contact information about the nominee; the disciplinary and specific areas of expertise of the nominee; the nominee's resume or curriculum vita; sources of recent grant and/or contract support; and a biographical sketch of the nominee indicating current position, educational background, research activities, and recent service on other national advisory committees or national professional organizations.

Persons having questions about the nomination procedures, or who are unable to submit nominations through the SAB Web site, should contact Mr. Thomas Carpenter, DFO, as indicated above in this notice. Nominations should be submitted in time to arrive no later than January 13, 2012. EPA values and welcomes diversity. In an effort to obtain nominations of diverse candidates, EPA encourages nominations of women and men of all racial and ethnic groups.

The EPA SAB Staff Office will acknowledge receipt of nominations. The names and bio-sketches of qualified nominees identified by respondents to this Federal Register notice, and additional experts identified by the SAB Staff, will be posted in a List of Candidates on the SAB Web site at http://www.epa.gov/sab. Public comments on this List of Candidates will be accepted for 21 days. The public will be requested to provide relevant information or other documentation on nominees that the SAB Staff Office should consider in evaluating candidates.

For the EPA SAB Staff Office a review panel includes candidates who possess the necessary domains of knowledge, the relevant scientific perspectives (which, among other factors, can be influenced by work history and affiliation), and the collective breadth of experience to adequately address the charge. In forming this expert panel, the SAB Staff Office will consider public comments on the List of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a lack of impartiality; (e) skills working in committees, subcommittees and advisory panels; and, (f) for the Panel as a whole, diversity of expertise and viewpoints.

The SAB Staff Office's evaluation of an absence of financial conflicts of interest will include a review of the “Confidential Financial Disclosure Form for Special Government Employees Serving on Federal Advisory Committees at the U.S. Environmental Protection Agency” (EPA Form 3110-48). This confidential form allows government officials to determine whether there is a statutory conflict between a person's public responsibilities (which includes membership on an EPA Federal advisory committee) and private interests and activities, or the appearance of a lack of impartiality, as defined by Federal regulation. The form may be viewed and downloaded from the following URL address http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: December 9, 2011.
Vanessa T. Vu,
Director, Science Advisory Board Staff Office.

[FR Doc. 2011-32279 Filed 12-15-11; 8:45 am]

BILLING CODE 6560-50-P